DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Monitoring of the National Suicide Prevention Lifeline (OMB No. 0930-0274) Revision

The Substance Abuse and Mental Health Services Administration (SAMHSA) Center for Mental Health Services (CMHS) is requesting approval for the revision of data collection associated with the previously-approved Monitoring of the National Suicide Prevention Lifeline (OMB No. 0930-0274; Expiration, July 31, 2016). The current request will continue previously-cleared efforts to evaluate process and impacts of follow-up services provided to suicidal individuals through the National Suicide Prevention Lifeline Crisis Center Follow-Up (NSPL Follow-Up) program.

The NSPL, or Lifeline, is SAMHSA's 24-hour crisis hotline (1-800-273-TALK [8255]) that serves as a central switchboard, seamlessly connecting callers from anywhere in the U.S. to the closest of its 165 crisis centers within the Lifeline network. Since its inception, the Lifeline has helped more than 6 million people. In 2008, SAMHSA launched the NSPL Follow-up program and began awarding cooperative agreements to crisis centers in the Lifeline network to reconnect with suicidal callers to offer emotional support and ensure they followed up with referrals to treatment. In 2013, the program was expanded to include crisis center follow-up with any suicidal individual referred from a partnering emergency department (ED) or inpatient hospital.

While previous evaluations of the NSPL demonstrated that suicidal callers experienced a reduction in hopelessness and suicidal intent after contacting the Lifeline, 43% of suicidal callers participating in follow-up assessments reported some recurrence of suicidality (e.g., ideation, plan, or attempt) since their crisis call (Gould et al., 2007). Even so, only about 35% of suicidal callers set up an appointment and even fewer had been seen by the behavioral health care system to which they were referred (Gould et al., 2007; Kalafat et al., 2007). Similarly, while several randomized, controlled trials have demonstrated that following up by telephone or letter with patients discharged from inpatient or ED settings can reduce rates of repeat suicide attempts (Vaiva et al., 2006), as well as completions (Fleischman et al., 2008; Motto & Bostrom, 2001), suicidal individuals discharged from EDs rarely link to ongoing care. As many as 70% of suicide attempters either never attend their first appointment or drop out of treatment after a few sessions (Knesper et al., 2010). Thus, it is imperative that EDs and inpatient settings link these individuals to follow-up care.

SAMHSA is addressing this need through the NSPL Follow-Up program. The Monitoring of the NSPL will continue to assess whether the NSPL Follow-Up program achieves its intended goals. This revision of the Monitoring of the NSPL represents SAMHSA's desire to expand this process and impacts evaluation to assess follow-up with clients referred to the Lifeline from partnering inpatient hospitals and EDs and continue to improve the methods and standards of service delivery to suicidal individuals receiving crisis center services. This effort will build on information collected through previous and ongoing NSPL evaluations; expand our understanding of the outcomes associated with the NSPL Follow-Up program; and continue to contribute to the evidence base.

This revision requests approval for the removal of one previously-approved instrument and the continuation and renaming of five previously-approved activities. Six crisis centers funded through the NSPL Follow-Up program in FY 2016 will participate in this effort.

Instrument Removal

Due to the completion of the motivational interviewing/safety planning (MI/SP) training and the fulfillment of data collection goals, the currently-approved MI/SP Counselor Attitudes Questionnaire and its associated burden will be removed.

Instrument and Consent Revisions

Each of the five instruments and consents associated with the Monitoring of the NSPL was previously approved by OMB (No. 0930-0274; Expiration, July 31, 2016). Revisions include the following: (1) The term “caller” will be replaced with “client” to reflect the change in respondent type to clients referred from partnering EDs and inpatient hospitals rather than callers, and (2) MI/SP will be removed from the titles of all instruments and consents. No other changes are being made.

The MI/SP Caller Follow-up Interview will be renamed “Client Follow-up Interview.”

The MI/SP Caller Initial Script will be renamed “Client Initial Script.”

The MI/SP Caller Follow-up Consent Script will be renamed “Client Follow-up Consent Script.”

The MI/SP Counselor Follow-up Questionnaire will be renamed “Counselor Follow-up Questionnaire.”

The MI/SP Counselor Consent will be renamed “Counselor Consent.”

The estimated response burden to collect this information associated with the Monitoring of the NSPL annualized over the requested 3-year approval period is presented below:

Estimated Annualized Burden
Activity | Number of respondents | Responses per respondent | Total number of responses | Burden per response (hours) | Annual burden (hours) *
Client Initial Script | 217 | 1 | 217 | .08 | 17
Client Initial Script Refusals | 53 | 1 | 53 | .02 | 1
Client Follow-up Consent Script | 161 | 1 | 161 | .17 | 27
Client Follow-up Consent Script Refusals | 10 | 1 | 10 | .03 | 1
Client Follow-up Interview | 160 | 1 | 160 | .67 | 107
Client Follow-up Interview Refusals | 1 | 1 | 1 | .25 | 1
Counselor Consent | 42 | 1 | 42 | .08 | 3
Counselor Follow-up Questionnaire | 42 | 15 | 630 | .17 | 107
Total | 685 |  | 1,274 |  | 264
* Rounded to the nearest whole number with 0 rounded to 1.

Written comments and recommendations concerning the proposed information collection should be sent by July 21, 2016 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2016-14588 Filed 6-20-16; 8:45 am]

BILLING CODE 4162-20-P